DEPARTMENT OF TRANSPORTATION

Federal Railroad Administration

[Docket Number FRA-2008-0097]

Petition for Waiver of Compliance

Under part 211 of title 49 Code of Federal Regulations (CFR), this document provides the public notice that on August 2, 2019, NJ TRANSIT Rail Operations (NJT) petitioned the Federal Railroad Administration (FRA) to renew its waiver of compliance from certain provisions of the Federal railroad safety regulations contained at 49 CFR 218.29, Alternate methods of protection. FRA assigned the petition Docket Number FRA-2008-0097.

Specifically, NJT requests relief from § 218.29(c)(1), regarding the alternate requirement to provide a derail capable of restricting access to a track positioned no less than 150 feet from the end of such equipment; when workers are on, under, or between rolling equipment, when a manually operated switch as required by § 218.29(b)(2) is not feasible. NJT seeks to utilize § 218.29(a)(4) to provide protection for workers by restricting the speed to not more than 5 miles per hour and permitting the location of locked derails no less than 50 feet from the end of the equipment under conditions that would normally require protection under § 218.27, Workers on track other than main track. A transportation department employee (yardmaster) is present to control train movements and coordinate maintenance activities with the mechanical department employees.

NJT states that since 2009, when the waiver first went into effect, no accidents, incidents, or injuries occurred at the Morrisville facility due to the practice of using such alternate blue signal protection. Because no changes have been made to the nature of the equipment servicing facility in the last five years, NJT seeks to extend the waiver for an additional five years.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by November 4, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to http://www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-20234 Filed 9-18-19; 8:45 am]

BILLING CODE 4910-06-P